DEPARTMENT OF DEFENSE

Office of the Secretary

[Docket No. DOD-2009-HA-0159]

Submission for OMB Review; Comment Request

ACTION: Notice.

The Department of Defense has submitted to OMB for clearance, the following proposal for collection of information under the provisions of the Paperwork Reduction Act (44 U.S.C. Chapter 35).

DATES: Consideration will be given to all comments received by January 22, 2013.

Title and OMB Number: TRICARE Prime Enrollment, Disenrollment, and Primary Care Manager (PCM) Change Form; DD Form 2876; OMB Control Number 0720-0008.

Type of Request: Revision.

Number of Respondents: 72,905.

Responses per Respondent: 1.

Annual Responses: 72,905.

Average Burden per Response: 18.367 minutes.

Annual Burden Hours: 22,317.

Needs and Uses: This collection instrument serves as applications for the Enrollment, Primary Care Manager (PCM) Change and Disenrollment for the Department of Defense's TRICARE Prime program established in accordance with title 10 U.S.C. 1099 (which calls for a healthcare enrollment system). Monthly payment options for retiree enrollment fees for TRICARE Prime are established in accordance with title 10 U.S.C. 1097a(c).

Affected Public: Individuals or households.

Frequency: On occasion.

Respondent's Obligation: Required to obtain or retain benefits.

OMB Desk Officer: Mr. John Kraemer.

Written comments and recommendations on the proposed information collection should be sent to Mr. Kraemer at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: November 21, 2012.
Patricia L. Toppings,
OSD Federal Register Liaison Officer, Department of Defense.

[FR Doc. 2012-30663 Filed 12-19-12; 8:45 am]

BILLING CODE 5001-06-P